FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Pacific Freights International, 56-361 Peawini Place, Kahuku, HI 96731. Officers: Epeli Katia, Managing Partner, (Qualifying Individual), Vilisoni Kotobalavu, CEO.

Dart Express (LAX) LLC, 821 W. Arbor Vitae Street, Inglewood, CA 90301. Officers: John J. Hafferty, Vice President, Edward M. Piza, Vice President, (Qualifying Individual).

ACS Logistics Inc., 5005 W. Royal Lane, Suite 198, Irving, TX 75063. Officer: George S. Jernigan, Asst. Secretary, (Qualifying Individual).

Non-Vessel Operating Common Carrier and Ocean Freight Forwarder Transportation Intermediary Applicants

Agiloc International, Inc., 400 Oyster Point Boulevard, So. San Francisco, CA 94080. Officers: Bugiharto Suheman, CEO, (Qualifying Individual), Jubily Boy, Secretary.

Crane Worldwide Logistics LLC dba McLean Cargo Specialists, Incorporated, 16680 Central Green Blvd., Houston, TX 77032. Officers: Keith Winters, COO, (Qualifying Individual), John Magee, CEO.

Global Distribution and Logistics, LLC, 355 E. Harvard Circle, South Elgin, IL 60177. Officer: John J. Yarwood, Member, (Qualifying Individual).

Dart Express (SFO) LLC, 1162 Cherry Avenue, San Bruno, CA 94066. Officers: John J. Hafferty, Vice President, Edward M. Piza, Vice President, (Qualifying Individuals).

SDS Global Logistics, Inc., 52-09 31st Place, Long Island, NY 11101. Officer: Steve Soricillo, Vice President, (Qualifying Individual).

Dated: September 26, 2008.
Karen V. Gregory,
Secretary.

[FR Doc. E8-23143 Filed 9-30-08; 8:45 am]

BILLING CODE 6730-01-P